DEPARTMENT OF HOMELAND SECURITY

U.S. Customs and Border Protection

Notice of Cancellation of Customs Broker Licenses

AGENCY: U.S. Customs and Border Protection, U.S. Department of Homeland Security.

ACTION: General Notice.

SUMMARY: Pursuant to section 641 of the Tariff Act of 1930, as amended, (19 U.S.C. 1641) and the U.S. Customs and Border Protection regulations (19 CFR 111.51), the following Customs broker licenses and all associated permits are cancelled without prejudice.

Name | License No. | Issuing port
Dependable International Services and Transport, Inc. | 12574 | New Orleans.
Professional Customs Brokers, Inc | 22821 | San Juan.
BAX Global, Inc | 13717 | Los Angeles.
Air-Worthy Custom Brokers Corp | 10165 | New York.
Horizon Logistics, LLC | 28432 | Dallas.
Sandra L. Smith | 15266 | Dallas.
Barry E. Booth | 09627 | San Francisco.
Sandra K. Grider | 05684 | San Francisco.

Dated: March 13, 2012.
Richard F. DiNucci,
Acting Assistant Commissioner, Office of International Trade.

[FR Doc. 2012-6657 Filed 3-19-12; 8:45 am]

BILLING CODE 9111-14-P